DEPARTMENT OF HEALTH AND HUMAN SERVICES

Centers for Disease Control and Prevention

[60Day-24-0006; Docket No. CDC-2023-0090]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Statement in Support of Application for Waiver of Inadmissibility Under Immigration and Nationality Act. This information collection is related to waivers of inadmissibility on health-related grounds, specifically mental health disorders with associated harmful behavior.

DATES: CDC must receive written comments on or before January 2, 2024.

ADDRESSES: You may submit comments, identified by Docket No. CDC-2023-0090 by either of the following methods:

• Federal eRulemaking Portal: www.regulations.gov. Follow the instructions for submitting comments.

• Mail: Jeffrey M. Zirger, Information Collection Review Office, Centers for Disease Control and Prevention, 1600 Clifton Road, NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Statement in Support of Application for Waiver of Inadmissibility Under Immigration and Nationality Act (OMB Control No. 0920-0006, Exp. 12/31/2023)—Revision—National Center for Emerging and Zoonotic Infectious Diseases (NCEZID), Centers for Disease Control and Prevention (CDC).

Background and Brief Description

The goal of this proposed collection is to provide Centers for Disease Control and Prevention (CDC) with adequate information to fulfill its responsibilities with regard to the processing of applications for waivers of inadmissibility on health-related grounds, specifically mental health disorders with associated harmful behaviors. Section 212 (a) of the Immigration and Nationality Act (INA) states that aliens with specific health-related grounds are ineligible to receive visas and ineligible for admission into the United States. The conditions are listed in subsections as follows:

(i) aliens who have a communicable disease of public health significance,

(iii) (I) aliens who have a physical or mental disorder and behavior associated with the disorder that may pose, or has posed, a threat to the property, safety, or welfare of the alien or others; or

(iii) (II) aliens who have had a physical or mental disorder and a history of behavior associated with the disorder, which behavior has posed a threat to property, safety, or welfare of the alien or others and which behavior is likely to recur or lead to other harmful behavior.

However, section 212(g) of the INA authorizes the Attorney General to waive certain Class A inadmissible health-related grounds which would allow an alien to overcome his/her inadmissibility. The CDC may provide consultation to the U.S. Department of Homeland Security (DHS) for requests for waivers under section 212(a)(1)(A)(i) or section 212(a)(1)(A)(iii)(I) or (II), as indicated in the regulations (8 CFR 212.7 Waiver of certain grounds of excludability) if: “the alien or the alien's sponsoring family member shall submit a statement to the consular or Service office. The statement must be from a clinic, hospital, institution, school, or other specialized facility or specialist in the United States . . . who will complete the evaluation and provide an evaluation report to the Centers for Disease Control and Prevention.”

Waiver requests under section 212(a)(1)(A)(i) are processed on DHS forms I-601 and I-602. Waiver requests under section 212(a)(1)(A)(iii)(I) or (II) are processed under CDC form 4.422-1. Respondents to this data collection include U.S. medical facilities and specialists who complete Part II of CDC form 4.422-1 for waiver applicants based on physical or mental disorders and submit the appropriate evaluation report. Respondents also include the applicant or sponsoring family member who complete Part III of CDC form 4.422-1

CDC requests OMB approval for an estimated 33 annual burden hours. There is no cost to respondents other than their time to participate.

Estimated Annualized Burden Hours
Type of respondents | Form name | Number of respondents | Number of responses per respondent | Average burden per response (in hours) | Total burden (in hours)
Physician | CDC 4.422-1 | 200 | 1 | 10/60 | 33
Total |  |  |  |  | 33

Jeffrey M. Zirger,
Lead, Information Collection Review Office, Office of Public Health Ethics and Regulations, Office of Science, Centers for Disease Control and Prevention.

[FR Doc. 2023-24346 Filed 11-2-23; 8:45 am]

BILLING CODE 4163-18-P